NATIONAL SCIENCE FOUNDATION

Special Emphasis Panel in Information and Intelligent Systems; Notice of Meetings

In accordance with the Federal Advisory Committee Act (Pub. L. 92-463, as amended), the National Science Foundation announces the following meetings of the Special Emphasis Panel in Information and Intelligent Systems (#1200):

Date/Time: January 15-16, 2001; 8:30 a.m.-5:00 p.m.; January 22-23, 2001; 8:30 a.m.-5:00 p.m.; January 23-24, 2001; 8:30 a.m.-5:00 p.m.; January 25-26, 2001; 8:30 a.m.-5:00 p.m.; January 30, 2001; 8:30 a.m.-5:00 p.m.; January 31-February 1, 2001; 8:30 a.m.-5:00 p.m.

Type of Meetings: Closed.

Contact Persons: Ephraim Glinert, Division of Information and Intelligent Systems, Room 1115, National Science Foundation, 4201 Wilson Blvd., Arlington, VA 22230. Telephone: (703) 292-8930.

Minutes: May be obtained from the contact persons listed above.

Purpose of Meeting: To provide advice and recommendations concerning proposals submitted to NSF for financial support.

Agenda: To review and evaluate proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: December 26, 2000.
Karen J. York,
Committee Management Officer.

[FR Doc. 00-33441 Filed 12-29-00; 8:45 am]

BILLING CODE 7555-01-M